DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Bluewater Michigan Chapter, Inc.

[Docket Number FRA-2009-0081]

The Bluewater Michigan Chapter, Inc. National Railway Historical Society (Bluewater), requests a waiver from compliance from the requirements related to the glazing installed on seven passenger cars used in tourist/excursion service. The cars covered by this petition were built between 1947 and 1957, and all carry the same reporting mark, BMCX. They are numbered: 857—52-seat passenger coach, 829—52-seat passenger coach, 832—52-seat passenger coach, 899—40-seat dining car, 9486—14-roomette sleeping/baggage car, 6604—48-seat round-end passenger car, and 9646—baggage car.

Specifically, the petitioner requests this relief from the requirements of 49 CFR 223.15(c), Requirements for existing passenger cars, including the requirement to install at least four emergency windows. Bluewater offers these passenger cars for occasional tourist/excursions over several host railroads: The Lake State Railroad, Great Lakes Central Railroad, Rail America, The Chesapeake and Indiana Railroad Company, Saginaw Bay Southern Railroad, and the Ohio Central Railroad. These cars will operate over mostly single-track railroad lines in rural areas, and at speeds less than 45 mph.

Bluewater believes that the operation of these cars in tourist/excursion service are exposed to a low potential for damage to the existing glazing from debris from surrounding structures, or from track-side vandals. Further, they are not aware of any incidents of broken windows, or any other passenger safety issues caused by the windows in the above listed cars while in operation over their host railroads. As a Chapter of the National Railroad Historical Society, a non-profit organization dedicated to the preservation of railroad history, most of the society's annual revenue is derived from the operation of these cars in tourist/excursion service. As stated in their petition, Bluewater's cost estimate to replace all the current windows, thus bringing the glazing into compliance with the CFR's requirements, would meet or exceed the total value of the cars. A requirement to replace all the windows in all the cars will result in their permanent retirement, as the Chapter does not have the financial ability to replace the glazing on all cars. The loss of revenue from tourist/excursion use of these cars would cause severe harm to the Bluewater organization and to neighboring organizations who also benefit from their excursions.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0081) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on August 9, 2010.
Robert C. Lauby,
Deputy Associate Administrator for Regulatory and Legislative Operations.

[FR Doc. 2010-19996 Filed 8-12-10; 8:45 am]

BILLING CODE 4910-06-P